DEPARTMENT OF EDUCATION

Submission for OMB Review; Comment Request

AGENCY: Department of Education.

ACTION: Correction notice.

SUMMARY: On August 16, 2007, the Department of Education published a comment period notice in the Federal Register (Page 46068, Column 1) for the information collection, “Federal Direct Consolidation Loan Program Application Documents.” The Type of Review is a Revision, the Responses are 895,050, and the Burden Hours are 322,629. The Abstract is as follows: “These forms are the means by which (1) An applicant applies for and promises to repay a Direct Consolidation Loan and (2) a loan holder verifies that a loan is eligible for consolidation.”

The Leader, Information Management Case Services Team, Regulatory Information Management Services, Office of Management, hereby issues a correction notice as required by the Paperwork Reduction Act of 1995.

Dated: August 17, 2007.
Angela Arrington,
Leader, Information Management Case Services Team, Regulatory Information Management Services, Office of Management.

[FR Doc. E7-16734 Filed 8-22-07; 8:45 am]

BILLING CODE 4000-01-P